ENVIRONMENTAL PROTECTION AGENCY

[FRL 9939-27-OA]

Announcement of the Board of Directors for the National Environmental Education Foundation

AGENCY: Office of External Affairs and Environmental Education, Environmental Protection Agency (EPA).

ACTION: Notice.

SUMMARY: The National Environmental Education and Training Foundation (doing business as The National Environmental Education Foundation or NEEF) was created by Section 10 of Public Law 101-619, the National Environmental Education Act of 1990. It is a private 501(c)(3) non-profit organization established to promote and support education and training as necessary tools to further environmental protection and sustainable, environmentally sound development. It provides the common ground upon which leaders from business and industry, all levels of government, public interest groups, and others can work cooperatively to expand the reach of environmental education and training programs beyond the traditional classroom. The Foundation promotes innovative environmental education and training programs such as environmental education for medical healthcare providers and broadcast meteorologists; it also develops partnerships with government and other organizations to administer projects that promote the development of an environmentally literal public. The Administrator of the U.S. Environmental Protection Agency, as required by the terms of the Act, announces the following appointment to the National Environmental Education Foundation Board of Directors. The appointee is Mr. Robert Garcia, is a civil rights advocate who engages, educates, and empowers communities for equal access to public resources.

FOR FURTHER INFORMATION CONTACT: For information regarding this Notice of Appointment, please contact Mr. Micah Ragland, Associate Administrator for Office of Public Engagement and Environmental Education, U.S. EPA 1200 Pennsylvania Ave. NW., Washington, DC 20460. General information concerning NEEF can be found on their Web site at: http://www.neefusa.org.

SUPPLEMENTARY INFORMATION:

Additional Considerations: Great care has been taken to assure that this new appointee not only has the highest degree of expertise and commitment, but also brings to the Board diverse points of view relating to environmental education. This appointment is a four-year term which may be renewed once for an additional four years pending successful re-election by the NEEF nominating committee.

This appointee will join the current Board members which include:

• Decker Anstrom (NEEF Chairman), Former U.S. Ambassador, Retired Chairman, The Weather Channel Companies

• Diane Wood (NEEF Secretary) President, National Environmental Education Foundation

• Carlos Alcazar, Founder and Chairman, Culture ONE World

• Megan Reilly Cayten, Co-Founder and Chief Executive Officer, Catrinka, LLC

• David M. Kiser (NEEF Treasurer), Vice President, Environment, Health, Safety and Sustainability, International Paper

• Wonya Lucas, President and CEO, Public Broadcasting Atlanta

• Shannon Schuyler, Principal, Corporate Responsibility Leader, PricewaterhouseCoopers (PwC)

• Jacqueline M. Thomas, Vice President of Corporate Responsibility, Toyota Motor Sales USA Inc.

• Raul Perea-Henze, MD, MPH, Managing Director, HORUS Advisors, Washington, DC

• George Basile, Ph.D., Professor, School of Sustainability, Arizona State University, Tempe, AZ

• Jennifer Harper-Taylor, Siemens Foundation (in process)

Background: Section 10 (a) of the National Environmental Education Act of 1990 mandates a National Environmental Education Foundation. The Foundation is established in order to extend the contribution of environmental education and training to meeting critical environmental protection needs, both in this country and internationally; to facilitate the cooperation, coordination, and contribution of public and private resources to create an environmentally advanced educational system; and to foster an open and effective partnership among Federal, State, and local government, business, industry, academic institutions, community based environmental groups, and international organizations.

The Foundation is a charitable and nonprofit corporation whose income is exempt from tax, and donations to which are tax deductible to the same extent as those organizations listed pursuant to section 501(c) of the Internal Revenue Code of 1986. The Foundation is not an agency or establishment of the United States. The purposes of the Foundation are—

(A) subject to the limitation contained in the final sentence of subsection (d) herein, to encourage, accept, leverage, and administer private gifts for the benefit of, or in connection with, the environmental education and training activities and services of the United States Environmental Protection Agency;

(B) to conduct such other environmental education activities as will further the development of an environmentally conscious and responsible public, a well-trained and environmentally literate workforce, and an environmentally advanced educational system;

(C) to participate with foreign entities and individuals in the conduct and coordination of activities that will further opportunities for environmental education and training to address environmental issues and problems involving the United States and Canada or Mexico.

The Foundation develops, supports, and/or operates programs and projects to educate and train educational and environmental professionals, and to assist them in the development and delivery of environmental education and training programs and studies.

The Foundation has a governing Board of Directors (hereafter referred to in this section as `the Board'), which consists of 13 directors, each of whom shall be knowledgeable or experienced in the environment, education and/or training. The Board oversees the activities of the Foundation and assures that the activities of the Foundation are consistent with the environmental and education goals and policies of the Environmental Protection Agency and with the intents and purposes of the Act. The membership of the Board, to the extent practicable, represents diverse points of view relating to environmental education and training. Members of the Board are appointed by the Administrator of the Environmental Protection Agency.

Within 90 days of the date of the enactment of the National Environmental Education Act, and as appropriate thereafter, the Administrator will publish in the Federal Register an announcement of appointments of Directors of the Board. Such appointments become final and effective 90 days after publication in the Federal Register. The directors are appointed for terms of 4 years. The Administrator shall appoint an individual to serve as a director in the event of a vacancy on the Board within 60 days of said vacancy in the manner in which the original appointment was made. No individual may serve more than 2 consecutive terms as a director.

Dated: November 10, 2015.
Gina McCarthy,
Administrator.

Mr. Robert Garcia

Mr. Robert Garcia, is the Founding Director and Counsel of The City Project, a non-profit legal and policy advocacy team in Los Angeles, California. The City Project works with diverse allies on equal access to (1) healthy green land use through community planning; (2) climate justice; (3) quality education including physical education; (4) health equity; and (5) economic vitality for all, including creating jobs and avoiding displacement. He received the President's Award from the American Public Health Association. PODER Magazine named him one of the Top 100 Latino Green Leaders. Hispanic Business Magazine has recognized him as one of the 100 most influential Latinos in the United States. Green 2.0 celebrates his work as an accomplished leader of color in the environmental field. Robert graduated from Stanford University and Stanford Law School, where he served on the Board of Editors of the Stanford Law Review. He is an Assistant Professor at Charles Drew University of Medicine and Science.

President Barack Obama and federal agencies are catapulting The City Project's work on green access to the national level. As the President recognized in dedicating the San Gabriel Mountains National Monument, “Too many children . . . especially children of color, don't have access to parks where they can run free, breathe fresh air, experience nature, and learn about their environment. This is an issue of social justice.” Conservation isn't about locking away our natural treasures. “It's about working with communities to open up our glorious heritage to everybody—young and old, black, white, Latino, Asian, Native American—to make sure everybody can experience these incredible gifts.”

The National Park Service and the US Army Corps of Engineers agree. Their studies on green access and the Santa Monica Mountains, the San Gabriel Mountains, and the Los Angeles River rely on The City Project's analyses to document that there are disparities in access to green space for people of color and low-income people in Los Angeles, that these disparities contribute to health disparities, and that environmental justice requires agencies to address these disparities. The City Project worked with Ranking Member Raul Grijalva and the House Natural Resources Committee to organize the historic forum on environmental justice, climate, and health. The forum included seven Members of Congress and community advocates at the L.A. River Center in 2015.

He has extensive experience in public policy, legal advocacy, mediation, and litigation involving complex social justice, civil rights, human health, environmental, education, and criminal justice matters. He has influenced the investment of over $43 billion in underserved communities, working at the intersection of equal justice, public health, and the built environment. He served as chairman of the Citizens' School Bond Oversight Committee for five years, helping raise over $27 billion to build new, and modernize existing, public schools as centers of their communities in Los Angeles. He has helped communities create and preserve great urban parks and preserve access to beaches and trails. He has helped diversify support for and access to state resource bonds, with unprecedented levels of support among communities of color and low-income communities, and billions of dollars for urban parks. He served on the Development Team for the National Park Service Healthy Parks, Healthy People Community Engagement eGuide. He served on Cardinal Roger Mahony's Justice and Peace Committee for the Archdiocese of Los Angeles.

He served as an Assistant United States Attorney for the Southern District of New York, and an attorney with the NAACP Legal Defense & Education Fund. He received the President's Award from the California Attorneys for Criminal Justice for helping release Geronimo Pratt, the former Black Panther leader, from prison after 27 years for a crime he did not commit. He represented people on Death Row in Georgia, Florida, and Mississippi. Stanford Law School called him a “civil rights giant” and Stanford Magazine “an inspiration.” He is an immigrant who came to the U.S. from Guatemala at age four.

He has lectured widely on the vision for healthy parks, schools, and communities. Recent keynote speeches include conferences at the National Recreation and Park Association (NRPA), Johns Hopkins Bloomberg School of Public Health, U.S. Environmental Protection Agency New Partners for Smart Growth, and Smithsonian Anacostia Community Museum. Other presentations include Stanford, Yale, Duke, Harvard Law School, Howard, UCLA, USC, Dalhousie University in Nova Scotia, Canada, FLAC in Dublin, Ireland, Centers for Disease Control (CDC), and National Council of La Raza (NCLR). The City Project [is] working to broaden access to parks and open space for inner-city residents and . . . to fight childhood obesity by guaranteeing that . . . students get enough physical education.”—New York Times.

[FR Doc. 2015-29918 Filed 11-24-15; 8:45 am]

BILLING CODE 6560-50-P